OFFICE OF MANAGEMENT AND BUDGET

2005 and 2006 List of Designated Federal Entities and Federal Entities

AGENCY: Office of Management and Budget.

ACTION: Notice.

SUMMARY: As required by the Inspector General Act of 1978, as amended (IG Act), this notice provides a list of Designated Federal Entities and Federal Entities.

FOR FURTHER INFORMATION CONTACT: Tawana Webb, Office of Federal Financial Management, Office of Management and Budget, telephone (202) 395-7586 (direct) or (202) 395-3993 (main office).

SUPPLEMENTARY INFORMATION: This notice provides a copy of the 2005 and 2006 Lists of Designated Federal Entities and Federal Entities which, under the IG Act, the Office of Management and Budget (OMB) is required to publish annually. This list is also posted on the OMB Web site at http://www.whitehouse.gov/omb.

The list is divided into two groups: Designated Federal Entities and Federal Entities. Designated Federal Entities are listed in the IG Act, except for those agencies that have ceased to exist or that have been deleted from the list. The Designated Federal Entities are required to establish and maintain Offices of Inspector General to: (1) Conduct and supervise audits and investigations relating to programs and operations; (2) promote economy, efficiency, and effectiveness of, and to prevent and detect fraud and abuse in such programs and operations; and (3) provide a means of keeping the entity head and the Congress fully and currently informed about problems and deficiencies relating to the administration of such programs and operations and the necessity for, and progress of, corrective actions.

Federal Entities are defined, in Section 8G(a)(1) of the Inspector General Act, as any Government corporation (within the meaning of section 103(1) of title 5, United States Code), any Government controlled corporation (within the meaning of section 103 (2) of such title), or any other entity in the Executive Branch of the government, or any independent regulatory agency, but does not include:

(1) An establishment (as defined in Section 11(2) of the Inspector General Act) or part of an establishment,

(2) a designated Federal entity (as defined in Section 8G(a)(2) of the Inspector General Act) or part of a designated Federal entity,

(3) the Executive Office of the President,

(4) the Central Intelligence Agency,

(5) the Government Accountability Office, or

(6) any entity in the judicial or legislative branches of the Government, including the Administrative Office of the United States Courts and the Architect of the Capitol and any activities under the direction of the Architect of the Capitol.

Federal Entities are required to report annually to each House of the Congress and OMB on audit and investigative activities in their organizations.

For the 2005 list, there were no additions or deletions to the Designated Federal Entities and Federal Entities list. For the 2006 list, there are no additions and one deletion to the Federal Entities list. The deletion is Farm Credit System Financial Assistance Corporation because in 2006 they will no longer receive funding.

The 2005 and 2006 Lists of Designated Federal Entities and Federal Entities was prepared in consultation with the U. S. Government Accountability Office.

Linda M. Combs,
Controller.

Herein follows the text of the 2005 and 2006 List of Designated Federal Entities and Federal Entities:

2005 List of Designated Federal Entities and Federal Entities

The Inspector General Act of 1978, as amended, requires OMB to publish a list of “Designated Federal Entities” and “Federal Entities” and the heads of such entities. Designated Federal Entities are required to establish Offices of Inspector General and to report semiannually to each House of the Congress and the Office of the Management and Budget summarizing the activities of the Office during the immediately preceding six-month periods ending March 31 and September 30. Federal Entities are required to report annually on October 31 to each House of the Congress and the Office of Management and Budget on audit and investigative activities in their organizations.

Designated Federal Entities and Entity Heads

1. Amtrak—Chairperson.

2. Appalachian Regional Commission—Federal Co-Chairperson.

3. The Board of Governors, Federal Reserve System—Chairperson.

4. Broadcasting Board of Governors—Chairperson.

5. Commodity Futures Trading Commission—Chairperson.

6. Consumer Product Safety Commission—Chairperson.

7. Corporation for Public Broadcasting—Board of Directors.

8. Denali Commission—Chairperson.

9. Election Assistance Commission—Chairperson.

10. Equal Employment Opportunity Commission—Chairperson.

11. Farm Credit Administration—Chairperson.

12. Federal Communications Commission—Chairperson.

13. Federal Election Commission—Chairperson.

14. Federal Housing Finance Board—Chairperson.

15. Federal Labor Relations Authority—Chairperson.

16. Federal Maritime Commission—Chairperson.

17. Federal Trade Commission—Chairperson.

18. Legal Services Corporation—Board of Directors.

19. National Archives and Records Administration—Archivist of the United States.

20. National Credit Union Administration—Chairperson.

21. National Endowment for the Arts—Chairperson.

22. National Endowment for the Humanities—Chairperson.

23. National Labor Relations Board—Chairperson.

24. National Science Foundation—National Science Board.

25. Peace Corps—Director.

26. Pension Benefit Guaranty Corporation—Chairperson.

27. Securities and Exchange Commission—Chairperson.

27. Smithsonian Institution—Secretary.

28. United States International Trade Commission—Chairperson.

29. United States Postal Service—Governors of the Postal Service.

Federal Entities and Entity Heads

1. Advisory Council on Historic Preservation—Chairperson.

2. African Development Foundation—Chairperson.

3. American Battle Monuments Commission—Chairperson.

4. Architectural and Transportation Barriers Compliance Board—Chairperson.

5. Armed Forces Retirement Home—Board of Directors.

6. Barry Goldwater Scholarship and Excellence in Education Foundation—Chairperson.

7. Chemical Safety and Hazard Investigation Board—Chairperson.

8. Christopher Columbus Fellowship Foundation—Chairperson.

9. Commission for the Preservation of America's Heritage Abroad—Chairperson.

10. Commission of Fine Arts—Chairperson.

11. Commission on Civil Rights—Chairperson.

12. Committee for Purchase from People Who Are Blind or Severely Disabled—Chairperson.

13. Court of Appeals for Veterans Claims—Chief Judge.

14. Court Services and Offender Supervision Agency for DC—Director.

15. Defense Nuclear Facilities Safety Board—Chairperson.

16. Delta Regional Authority—Federal Co-Chairperson.

17. Farm Credit System Financial Assistance Corporation—Chairperson.

18. Farm Credit System Insurance Corporation—Chairperson.

19. Federal Financial Institutions Examination Council—Chairperson.

20. Federal Mediation and Conciliation Service—Director.

21. Federal Mine Safety and Health Review Commission—Chairperson.

22. Federal Retirement Thrift Investment Board—Executive Director.

23. Harry S. Truman Scholarship Foundation—Chairperson.

24. Institute of American Indian and Alaska Native Culture and Arts Development—Chairperson.

25. Institute of Museum and Library Services—Director.

26. Inter-American Foundation—Chairperson.

27. James Madison Memorial Fellowship Foundation—Chairperson.

28. Japan-U.S. Friendship Commission—Chairperson.

29. Marine Mammal Commission—Chairperson.

30. Merit Systems Protection Board—Chairperson.

31. Millennium Challenge Corporation—Chief Executive Officer.

32. Morris K. Udall Scholarship and Excellence in National Environmental Policy Foundation—Chairperson.

33. National Capital Planning Commission—Chairperson.

34. National Commission on Libraries and Information Science—Chairperson.

35. National Council on Disability—Chairperson.

36. National Mediation Board—Chairperson.

37. National Transportation Safety Board—Chairperson.

38. National Veterans Business Development Corporation—Chairperson.

39. Neighborhood Reinvestment Corporation—Chairperson.

40. Nuclear Waste Technical Review Board—Chairperson.

41. Occupational Safety and Health Review Commission—Chairperson.

42. Office of Government Ethics—Director.

43. Office of Navajo and Hopi Indian Relocation—Chairperson.

44. Office of Special Counsel—Special Counsel.

45. Overseas Private Investment Corporation—Board of Directors.

46. Presidio Trust—Chairperson.

47. Selective Service System—Director.

48. Smithsonian Institution/John F. Kennedy Center for the Performing Arts—Chairperson.

49. Smithsonian Institution/National Gallery of Art—President.

50. Smithsonian Institution/Woodrow Wilson International Center for Scholars—Director.

51. Trade and Development Agency—Director.

52. U.S. Holocaust Memorial Museum—Chairperson.

53. U.S. Interagency Council on Homelessness—Chairperson.

54. U.S. Institute of Peace—Chairperson.

55. Vietnam Educational Foundation—Chairperson.

56. White House Commission on the National Moment of Remembrance—Chairperson.

2006 List of Designated Federal Entities and Federal Entities

Designated Federal Entities and Entity Heads

1. Amtrak—Chairperson.

2. Appalachian Regional Commission—Federal Co-Chairperson.

3. The Board of Governors, Federal Reserve System—Chairperson.

4. Broadcasting Board of Governors—Chairperson.

5. Commodity Futures Trading Commission—Chairperson.

6. Consumer Product Safety Commission—Chairperson.

7. Corporation for Public Broadcasting—Board of Directors.

8. Denali Commission—Chairperson.

9. Election Assistance Commission—Chairperson.

10. Equal Employment Opportunity Commission—Chairperson.

11. Farm Credit Administration—Chairperson.

12. Federal Communications Commission—Chairperson.

13. Federal Election Commission—Chairperson.

14. Federal Housing Finance Board—Chairperson.

15. Federal Labor Relations Authority—Chairperson.

16. Federal Maritime Commission—Chairperson.

17. Federal Trade Commission—Chairperson.

18. Legal Services Corporation—Board of Directors.

19. National Archives and Records Administration—Archivist of the United States.

20. National Credit Union Administration—Chairperson.

21. National Endowment for the Arts—Chairperson.

22. National Endowment for the Humanities—Chairperson.

23. National Labor Relations Board—Chairperson.

24. National Science Foundation—National Science Board.

25. Peace Corps—Director.

26. Pension Benefit Guaranty Corporation—Chairperson.

27. Securities and Exchange Commission—Chairperson.

27. Smithsonian Institution—Secretary.

28. United States International Trade Commission—Chairperson.

29. United States Postal Service—Governors of the Postal Service.

Federal Entities and Entity Heads

1. Advisory Council on Historic Preservation—Chairperson.

2. African Development Foundation—Chairperson.

3. American Battle Monuments Commission—Chairperson.

4. Architectural and Transportation Barriers Compliance Board—Chairperson.

5. Armed Forces Retirement Home—Board of Directors.

6. Barry Goldwater Scholarship and Excellence in Education Foundation—Chairperson.

7. Chemical Safety and Hazard Investigation Board—Chairperson.

8. Christopher Columbus Fellowship Foundation—Chairperson.

9. Commission for the Preservation of America's Heritage Abroad—Chairperson.

10. Commission of Fine Arts—Chairperson.

11. Commission on Civil Rights—Chairperson.

12. Committee for Purchase from People Who Are Blind or Severely Disabled—Chairperson.

13. Court of Appeals for Veterans Claims—Chief Judge.

14. Court Services and Offender Supervision Agency for DC—Director.

15. Defense Nuclear Facilities Safety Board—Chairperson.

16. Delta Regional Authority—Federal Co-Chairperson.

17. Farm Credit System Insurance Corporation—Chairperson.

18. Federal Financial Institutions Examination Council—Chairperson.

19. Federal Mediation and Conciliation Service—Director.

20. Federal Mine Safety and Health Review Commission—Chairperson.

21. Federal Retirement Thrift Investment Board—Executive Director.

22. Harry S. Truman Scholarship Foundation—Chairperson.

23. Institute of American Indian and Alaska Native Culture and Arts Development—Chairperson.

24. Institute of Museum and Library Services—Director.

25. Inter-American Foundation—Chairperson.

26. James Madison Memorial Fellowship Foundation—Chairperson.

27. Japan-U.S. Friendship Commission—Chairperson.

28. Marine Mammal Commission—Chairperson.

29. Merit Systems Protection Board—Chairperson.

30. Millennium Challenge Corporation—Chief Executive Officer.

31. Morris K. Udall Scholarship and Excellence in National Environmental Policy Foundation—Chairperson.

32. National Capital Planning Commission—Chairperson.

33. National Commission on Libraries and Information Science—Chairperson.

34. National Council on Disability—Chairperson.

35. National Mediation Board—Chairperson.

36. National Transportation Safety Board—Chairperson.

37. National Veterans Business Development Corporation—Chairperson.

38. Neighborhood Reinvestment Corporation—Chairperson.

39. Nuclear Waste Technical Review Board—Chairperson.

40. Occupational Safety and Health Review Commission—Chairperson.

41. Office of Government Ethics—Director.

42. Office of Navajo and Hopi Indian Relocation—Chairperson.

43. Office of Special Counsel—Special Counsel.

44. Overseas Private Investment Corporation—Board of Directors.

45. Presidio Trust—Chairperson.

46. Selective Service System—Director.

47. Smithsonian Institution/John F. Kennedy Center for the Performing Arts—Chairperson.

48. Smithsonian Institution/National Gallery of Art—President.

49. Smithsonian Institution/Woodrow Wilson International Center for Scholars—Director.

50. Trade and Development Agency—Director.

51. U.S. Holocaust Memorial Museum—Chairperson.

52. U.S. Interagency Council on Homelessness—Chairperson.

53. U.S. Institute of Peace—Chairperson.

54. Vietnam Educational Foundation—Chairperson.

55. White House Commission on the National Moment of Remembrance—Chairperson.

[FR Doc. E6-6329 Filed 4-26-06; 8:45 am]

BILLING CODE 3110-01-P